SMALL BUSINESS ADMINISTRATION

[Declaration of Economic Injury Disaster #9M35]

Commonwealth of Pennsylvania

Lehigh County and the contiguous counties of Berks, Bucks, Carbon, Montgomery, Northampton, and Schuylkill constitute an economic injury disaster loan area as a result of severe storms and flooding that occurred on August 12, 2001. Eligible small businesses and small agricultural cooperatives without credit available elsewhere may file applications for economic injury assistance as a result of this disaster until the close of business on May 16, 2002 at the address listed below or other locally announced locations: U.S. Small Business Administration, Disaster Area 1 Office, 360 Rainbow Blvd., South 3rd Floor, Niagara Falls, NY 14303.

The interest rate for eligible small businesses and small agricultural cooperatives is 4 percent. The number assigned for economic injury for this disaster is 9M3500 for Pennsylvania.

(Catalog of Federal Domestic Assistance Program No. 59002)
Dated: August 16, 2001.
John Whitmore,
Acting Administrator.

[FR Doc. 01-21347 Filed 8-22-01; 8:45 am]

BILLING CODE 8025-01-P